ENVIRONMENTAL PROTECTION AGENCY

[FRL-8017-5]

Proposed Settlement Under Section 122(h)(1) of the Comprehensive Environmental Response, Compensation and Liability Act, as Amended, 42 U.S.C. 9622(h)(1), P.M. Northwest Site, Swinomish Indian Reservation, Laconnor, WA

AGENCY: Environmental Protection Agency (EPA).

ACTION: Notice of proposed settlement and request for public comment.

SUMMARY: In accordance with section 122(i) of the Comprehensive Environmental Response, Compensation and Liability Act, as amended by the Superfund Amendment and Reauthorization Act (“CERCLA”), notice is hereby given of a proposed settlement to resolve claims against P.M. Northwest Inc., Shell Oil Company, and Texaco Inc. The proposed settlement concerns the federal government's past response costs at the PM Northwest Site, located on the Swinomish Indian Reservation, near Laconnor, Washington. The settlement requires the settling parties, PM Northwest Inc., Shell Oil Company, and Texaco Inc., to pay $170,000 to the Hazardous Substance Superfund.

DATES: Comments must be received by January 30, 2006, relating to the settlement.

ADDRESSES: The Agency's response to any comments received will be available for public inspection at the U.S. Environmental Protection Agency, Region 10 office at 1200 Sixth Avenue, Seattle, Washington 98101. A copy of the proposed settlement may be obtained from Carol Kennedy, Regional Hearing Clerk, EPA, Region 10, 1200 Sixth Avenue (ORC-158), Seattle, Washington 98101, telephone number (206) 553-0242. Comments should reference the “PM Northwest Site” and EPA Docket No. CERCLA-10-2004-0216 and should be addressed to Ms. Kennedy at the above address.

FOR FURTHER INFORMATION CONTACT: Richard McAllister, Assistant Regional Counsel, EPA Region 10, Office of Regional Counsel, 1200 Sixth Avenue, Seattle, Washington 98101, telephone number (206) 553-8203.

Dated: December 22, 2005.
L. Michael Bogert,
Regional Administrator, Region 10.

[FR Doc. E5-8123 Filed 12-29-05; 8:45 am]

BILLING CODE 6560-50-P